DEPARTMENT OF COMMERCE

International Trade Administration

[A-549-813]

Canned Pineapple Fruit from Thailand: Preliminary Results of Antidumping Duty Administrative Review

AGENCY: Import Administration, International Trade Administration, Department of Commerce.

SUMMARY: In response to requests by certain producers/exporters of the subject merchandise and the petitioners,¹ the Department of Commerce (the Department) is conducting an administrative review of the antidumping duty order on canned pineapple fruit (CPF) from Thailand. This review covers two producers/exporters of the subject merchandise. The period of review (POR) is July 1, 2004, through June 30, 2005.

¹ The petitioners are Maui Pineapple Company Ltd. and the International Longshoreman's and Warehouseman's Union.

The Department has preliminarily determined that the companies subject to this review made U.S. sales at prices less than normal value (NV). If these preliminary results are adopted in our final results of administrative review, we will instruct U.S. Customs and Border Protection (CBP) to assess antidumping duties on all appropriate entries. Interested parties are invited to comment on these preliminary results of review. We will issue the final results of review no later than 120 days from the date of publication of this notice.

EFFECTIVE DATE: August 4, 2006.

FOR FURTHER INFORMATION CONTACT: Magd Zalok or Howard Smith, AD/CVD Operations, Office 4, Import Administration, International Trade Administration, U.S. Department of Commerce, 14th Street and Constitution Avenue, NW, Washington, DC 20230, telephone: (202) 482-4162 and (202) 482-5193, respectively.

SUPPLEMENTARY INFORMATION:

Background

On July 1, 2005, the Department published in the Federal Register a notice of “Opportunity to Request Administrative Review” of the antidumping duty order on CPF from Thailand. See Antidumping or Countervailing Duty Order, Finding, or Suspended Investigation; Opportunity To Request Administrative Review, 70 FR 38099 (July 1, 2005). In accordance with 19 CFR § 351.213(b)(2), on July 19, 2005, the producer/exporter, Vita Food Factory (1989) Ltd. (Vita), requested that the Department conduct an administrative review of its sales and entries of subject merchandise into the United Stated during the POR. Additionally, in accordance with 19 CFR § 351.213(b)(1), on July 29, 2005, the petitioners requested that the Department conduct a review of Tropical Food Industries Co., Ltd. (TROFCO), The Prachuab Fruit Canning Company (PRAFT), and Vita. On August 29, 2005, the Department initiated an administrative review of TROFCO, PRAFT, and Vita. See Initiation of Antidumping and Countervailing Duty Administrative Reviews and Requests for Revocation in Part, 70 FR 51009 (August 29, 2005).

On August 5, 2005, the Department issued its antidumping questionnaire to TROFCO, PRAFT, and Vita. On August 10, 2005, PRAFT informed the Department that it had no U.S. sales or shipments of the subject merchandise during the POR. In August and September 2005, Vita responded to the Department's antidumping questionnaire. Subsequently, the Department issued supplemental questionnaires to Vita. Throughout this administrative review, the petitioners have submitted comments regarding Vita's questionnaire responses. In a letter submitted to the Department on August 24, TROFCO requested an extension of time to respond to the Department's questionnaire. Based on TROFCO's request, the Department granted TROFCO an extension of time to respond to section A of the questionnaire until September 12, 2005, and to sections B, C, and D of the questionnaire until September 27, 2005. However, TROFCO did not respond to the Department's questionnaire. On October 6, 2005, the Department issued a letter to TROFCO requesting that it explain in writing whether it had no shipment or sales of CPF to the United States during the POR. In the letter, we informed TROFCO that if it did not respond to the Department's letter by October 13, 2005, the Department may conclude that TROFCO decided not to cooperate and may use facts available that are adverse to TROFCO's interests in determining the company's dumping margin. The Department did not receive a response from TROFCO.

Pursuant to section 751(a)(3)(A) of the Tariff Act of 1930, as amended (the Act), the Department may extend the deadline for completion of an administrative review if it determines that it is not practicable to complete the review within the statutory time limit of 245 days. On March 16, 2006, the Department extended the time limit for the preliminary results of review until July 31, 2006 (see Canned Pineapple Fruit From Thailand: Notice of Extension of Time Limit for Preliminary Results of Antidumping Duty Administrative Review, 71 FR 14497 (March 22, 2006)).

The Department is conducting this administrative review in accordance with section 751 of the Act.

Period of Review

The POR is July 1, 2004, through June 30, 2005.

Scope of the Order

The product covered by the order is canned pineapple fruit, defined as pineapple processed and/or prepared into various product forms, including rings, pieces, chunks, tidbits, and crushed pineapple, that is packed and cooked in metal cans with either pineapple juice or sugar syrup added. Imports of canned pineapple fruit are currently classifiable under subheadings 2008.20.0010 and 2008.20.0090 of the Harmonized Tariff Schedule of the United States (HTSUS). HTSUS 2008.20.0010 covers canned pineapple fruit packed in a sugar-based syrup; HTSUS 2008.20.0090 covers CPF packed without added sugar (i.e., juice-packed). The HTSUS subheadings are provided for convenience and customs purposes. The written description of the merchandise covered by this order is dispositive.

Partial Preliminary Rescission of Review

As noted above, PRAFT informed the Department that it had no shipments of subject merchandise to the United States during the POR. After receiving PRAFT's “no shipments” claim, the Department examined CBP entry data for the POR. These data support the conclusion that there were no entries, exports, or sales of subject merchandise from PRAFT during the POR. See memorandum to the file from Magd Zalok dated May 15, 2006. Further, on May 22, 2006, the Department requested that CBP notify it within 10 days if CBP had evidence of exports of subject merchandise from PRAFT during the POR. CBP has not notified the Department of such exports. See the memorandum to the file from Magd Zalok dated June 15, 2006. Therefore, in accordance with 19 CFR § 351.213(d)(3), and consistent with the Department's practice, we are preliminarily rescinding our review of PRAFT. See, e.g., Certain Steel Concrete Reinforcing Bars From Turkey; Final Results, Rescission of Antidumping Duty Administrative Review in Part, and Determination Not To Revoke in Part, 68 FR 53127, 53128 (September 9, 2003).

Use of Adverse Facts Available (AFA)

Section 776(a)(2) of the Act provides that, if an interested party (A) Withholds information requested by the Department, (B) fails to provide such information by the deadline, or in the form or manner requested, (C) significantly impedes a proceeding, or (D) provides information that cannot be verified, the Department shall use, subject to sections 782(d) and (e) of the Act, facts otherwise available in reaching the applicable determination.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e) of the Act, disregard all or part of the original and subsequent responses, as appropriate.

The evidence on the record of this review establishes that, pursuant to section 776(a)(2)(A) and (C) of the Act, the use of total facts available is warranted in determining the dumping margin for TROFCO because this company failed to provide requested information. Specifically, TROFCO failed to respond to the Department's antidumping questionnaire.

On October 6, 2005, the Department informed TROFCO by letter that failure to respond to the request for information by October 13, 2005, may result in the use of AFA in determining its dumping margin. TROFCO, however, did not respond to the Department's October 6, 2005, letter. Because TROFCO failed to provide any of the necessary information requested by the Department and thus significantly impeded this segment of the proceeding, pursuant to sections 776(a)(2)(A) and (C) of the Act, we have based the dumping margin for TROFCO on the facts otherwise available (FA).

Use of Adverse Inferences

Section 776(b) of the Act states that if the Department “finds that an interested party has failed to cooperate by not acting to the best of its ability to comply with a request for information from the administering authority or the Commission, the administering authority or the Commission ..., in reaching the applicable determination under this title, may use an inference that is adverse to the interests of that party in selecting from among the facts otherwise available.” See also Statement of Administrative Action (SAA) accompanying the Uruguay Round Agreements Act (URAA), H. Rep. No. 103-316 at 870 (1994). Section 776(b) of the Act goes on to note that an adverse inference may include reliance on information derived from (1) the petition; (2) a final determination in the investigation under this title; (3) any previous review under section 751 or determination under section 753; or (4) any other information on the record. Adverse inferences are appropriate “to ensure that the party does not obtain a more favorable result by failing to cooperate than if it had cooperated fully.” See SAA at 870. The Court of Appeals for the Federal Circuit (CAFC), in Nippon Steel Corporation v. United States, 337 F.3d 1373, 1380 (Fed. Cir. 2003), held that the Department need not show intentional conduct existed on the part of the respondent, but merely that a “failure to cooperate to the best of a respondent's ability” existed, i.e., information was not provided “under circumstances in which it is reasonable to conclude that less than full cooperation has been shown.” Id.

The record shows that TROFCO failed to cooperate to the best of its ability within the meaning of section 776(b) of the Act. As noted above, TROFCO failed to provide any response to the Department's requests for information. As a general matter, it is reasonable for the Department to assume that TROFCO possessed the records necessary to participate in this review. Thus, by not supplying the information the Department requested, TROFCO failed to cooperate to the best of its ability. As TROFCO failed to cooperate to the best of its ability, we are applying an adverse inference in determining its dumping margin pursuant to section 776(b) of the Act. As AFA, we have preliminarily assigned to TROFCO a dumping margin of 51.16 percent, the highest margin determined for any respondent during any segment of this proceeding, consistent with section 776(b)(2) of the Act. This rate was calculated for a respondent in the less than fair value investigation. See Notice of Antidumping Duty Order and Amended Final Determination: Canned Pineapple Fruit From Thailand, 60 FR 36775 (July 18, 1995).

Corroboration of Information

Section 776(c) of the Act requires the Department, to the extent practicable, to corroborate secondary information used as FA based on independent sources that are reasonably at its disposal. Secondary information is defined as “{i}nformation derived from the petition that gave rise to the investigation or review, the final determination concerning the subject merchandise, or any previous review under section 751 concerning the subject merchandise.” See SAA at 870 and 19 CFR § 351.308(c).

The SAA clarifies that “corroborate” means that the Department will satisfy itself that the secondary information to be used has probative value (see SAA at 870). The SAA also states that independent sources used to corroborate such information may include, for example, published price lists, official import statistics and customs data, and information obtained from interested parties during the particular investigation or review. Id. To corroborate secondary information, the Department will, to the extent practicable, examine the reliability and relevance of the information to be used. However, unlike other types of information, such as input costs or selling expenses, there are no independent sources to establish the reliability of calculated dumping margins. Thus, in an administrative review, if the Department chooses as total AFA a calculated dumping margin from a prior segment of the proceeding, it is not necessary to question the reliability of the margin for that time period. With respect to the relevancy aspect of corroboration, however, the Department will consider information reasonably at its disposal as to whether there are circumstances that would render a dumping margin inappropriate. Where circumstances indicate that the selected dumping margin is not appropriate as AFA, the Department will disregard the margin and determine an appropriate dumping margin. See, e.g., Fresh Cut Flowers from Mexico; Final Results of Antidumping Duty Administrative Review, 61 FR 6812, 6814 (February 22, 1996) (where the Department disregarded the highest dumping margin as AFA because the margin was based on another company's uncharacteristic business expense resulting in an unusually high dumping margin). We have preliminarily determined that the 51.16 percent rate is appropriate because it was calculated for another respondent in a prior segment of this proceeding, and it has not been judicially invalidated. Thus, we consider the calculated rate of 51.16 to be corroborated.

Comparison Methodology

In order to determine whether Vita sold CPF to the United States at prices less than NV, the Department compared the export price (EP) of individual U.S. sales to the monthly weighted-average NV of sales of the foreign like product made in the ordinary course of trade (see section 777A(d)(2) of the Act; see also section 773(a)(1)(B)(i) of the Act). Section 771(16) of the Act defines foreign like product as merchandise that is identical or similar to subject merchandise and produced by the same person and in the same country as the subject merchandise. Thus, we considered all products covered by the scope of the order, that were produced by the same person and in the same country as the subject merchandise, and sold by Vita in the comparison market during the POR, to be foreign like products for the purpose of determining appropriate product comparisons to CPF sold in the United States. The Department compared U.S. sales to sales made in the comparison market within the contemporaneous window period, which extends from three months prior to the month in which the U.S. sale was made until two months after the month in which the U.S. sale was made. Where there were no sales of identical merchandise made in the comparison market in the ordinary course of trade, the Department compared U.S. sales to sales of the most similar foreign like product made in the ordinary course of trade. In making product comparisons, the Department selected identical and most similar foreign like products based on the physical characteristics reported by Vita in the following order of importance: weight, form, variety, and grade. Where there were no appropriate sales of foreign like product to compare to a U.S. sale, we compared the price of the U.S. sale to constructed value (CV), in accordance with section 773(a)(4) of the Act.

Export Price

The Department based the price of each of Vita's U.S. sales of subject merchandise on EP, as defined in section 772(a) of the Act, because the merchandise was sold, prior to importation, to unaffiliated purchasers in the United States, or to unaffiliated purchasers for exportation to the United States and the use of constructed export price was not otherwise warranted based on the facts on the record. In accordance with section 772 (a) and (c) of the Act, we calculated EP using the prices Vita charged for packed subject merchandise, from which we made deductions for movement expenses, including, where applicable, charges for transportation, terminal handling, container stuffing, bill of lading preparation, Customs clearance, and legal and port fees documentation. See Analysis Memorandum for Vita Food Factory (1989) Co., Ltd., (Vita Analysis Memorandum) dated concurrently with this notice. We did not calculate EP using the post-sale, post-POR price adjustments reported by Vita because Vita failed to demonstrate that it is entitled to these adjustments (the post-sale adjustments benefitted Vita, and thus Vita bore the burden to demonstrate that it is entitled to these adjustments). See Corus Engineering Steels Ltd. v. United States, Slip Op. 2003-110, 2003 CIT Lexis 110 at * 11 (“The burden of proof is upon the claimant to prove entitlement.”). See also Vita's Post Sale Price Adjustment Memorandum, dated concurrently with this notice.

Normal Value

After testing home market viability and whether comparison market sales were at below-cost prices, we calculated NV for Vita as noted in the “Price-to-Price Comparisons” and “Price-to-CV Comparisons” sections of this notice.

A. Home Market Viability

In accordance with section 773(a)(1)(C) of the Act, in order to determine whether there was a sufficient volume of sales in the home market to serve as a viable basis for calculating NV (i.e., the aggregate volume of home market sales of the foreign like product is greater than or equal to five percent of the aggregate volume of U.S. sales), we compared the aggregate volume of Vita's home market sales of the foreign like product to the aggregate volume of its U.S. sales of subject merchandise. Because the aggregate volume of Vita's home market sales of foreign like product is less than five percent of the aggregate volume of its U.S. sales of subject merchandise, we based NV on sales of the foreign like product in a country other than Vita's home market. See section 773(a)(1)(B)(ii) of the Act. Specifically, we based NV for Vita on sales of the foreign like product in the Netherlands, the third-country market with the greatest volume of foreign like product sales.

B. Cost of Production (COP) Analysis

In the most recently completed administrative review of the antidumping duty order on CPF from Thailand, the Department determined that Vita sold foreign like product at prices below the cost of producing the product and excluded such sales from the calculation of NV. As a result, in accordance with section 773(b)(2)(A)(ii) of the Act, the Department determined that there are reasonable grounds to believe or suspect that during the instant POR, Vita sold the foreign like product at prices below the cost of producing the product. Thus, the Department initiated a sales below cost inquiry with respect to Vita.

1. Calculation of COP

In accordance with section 773(b)(3) of the Act, for each unique foreign like product sold by Vita during the POR, we calculated a weighted-average COP based on the sum of the respondent's materials and fabrication costs, selling, general and administrative (SG&A) expenses, including interest expenses, and packing costs. Consistent with the position taken by the Department in prior segments of this proceeding, for reporting purposes, Vita allocated joint product costs between solid and juice products using the net realizable value of the products during the five-year period 1990 through 1994. We relied on the costs submitted by Vita without exception.

2. Test of Comparison Market Sales Prices

In order to determine whether sales were made at prices below the COP, on a product-specific basis we compared the respondent's weighted-average COPs to the prices of its comparison market sales of foreign like product, as required under section 773(b) of the Act. In accordance with sections 773(b)(1)(A) and (B) of the Act, in determining whether to disregard comparison market sales made at prices less than the COP, we examined whether such sales were made: (1) in substantial quantities within an extended period of time; and (2) at prices which permitted the recovery of all costs within a reasonable period of time. We compared the COP to comparison market sales prices, less any applicable movement charges.

3. Results of the COP Test

Pursuant to section 773(b)(2)(C) of the Act, where less than 20 percent of a respondent's sales of a given product were made at prices less than the COP, we did not disregard any below-cost sales of that product because the below-cost sales were not made in “substantial quantities.” Where 20 percent or more of a respondent's sales of a given product were made at prices less than the COP during the POR, we determined such sales to have been made in “substantial quantities” and within an extended period of time (i.e., one year) pursuant to sections 773(b)(2)(B) and (C) of the Act. Based on our comparison of POR average costs to reported prices, we also determined, in accordance with section 773(b)(2)(D) of the Act, that these sales were not made at prices which would permit recovery of all costs within a reasonable period of time. As a result, we disregarded these below-cost sales.

Price-to-Price Comparisons

Where it was appropriate to base NV on prices, we used the prices at which the foreign like product was first sold for consumption in the comparison market, in the usual commercial quantities, in the ordinary course of trade, and, to the extent possible, at the same level of trade (LOT) as the comparison U.S. sale.

We based NV on the prices of Vita's sales to unaffiliated customers in the Netherlands. We made adjustments, where appropriate, for physical differences in the merchandise in accordance with section 773(a)(6)(C)(ii) of the Act. In accordance with sections 773(a)(6)(A), (B), and (C) of the Act, where appropriate, we deducted from the starting price movement expenses, including, where applicable, charges for transportation, terminal handling, container stuffing, bill of lading preparation, customs clearance, and legal and port fees documentation. We also made circumstance of sale adjustments to account for differences in packing, credit and other direct selling expenses incurred in the comparison and U.S. markets. In addition, where applicable, pursuant to 19 CFR § 351.410 (e), we made a reasonable allowance for other selling expenses where commissions were paid in only one of the markets under consideration. See Vita Analysis Memorandum. In accordance with the Department's practice, where all contemporaneous matches to a U.S. sale resulted in difference-in-merchandise adjustments exceeding 20 percent of the cost of manufacturing the product sold in the United States, we based NV on CV.

Price-to-CV Comparisons

In accordance with section 773(a)(4) of the Act, we based NV on CV when we were unable to compare the U.S. sale to a comparison market sale of an identical or similar product. For each unique CPF product sold by Vita in the United States during the POR, we calculated a weighted-average CV based on the sum of the respondent's materials and fabrication costs, SG&A expenses, including interest expenses, packing costs, and profit. In accordance with section 773(e)(2)(A) of the Act, we based SG&A expenses and profit on the amounts incurred and realized by the respondent in connection with the production and sale of the foreign like product, in the ordinary course of trade, for consumption in the Netherlands. We based selling expenses on weighted-average actual comparison market direct and indirect selling expenses.

Level of Trade

In accordance with section 773(a)(1)(B) of the Act, to the extent practicable, we determined NV based on sales in the comparison market at the same LOT as the EP. The NV LOT is based on the starting price of the sales in the comparison market or, when NV is based on CV, the starting price of the sales from which we derive SG&A expenses and profit. For EP sales, the U.S. LOT is based on the starting price of the sales to the U.S. market.

To determine whether NV sales are at a different LOT than the EP sales, we examine stages in the marketing process and selling functions along the chain of distribution between the producer and the unaffiliated customer. If the comparison market sales are at a different LOT, and the difference affects price comparability, as manifested in a pattern of consistent price differences between the sales on which NV is based and comparison-market sales at the LOT of the export transaction, we make a LOT adjustment under section 773(a)(7)(A) of the Act. In determining whether separate LOTs exist, we obtained information from Vita regarding the marketing stages for the reported U.S. and comparison market sales, including a description of the selling activities performed by Vita for each channel of distribution. Generally, if the reported LOTs are the same, the functions and activities of the seller at each level should be similar. Conversely, if a party reports that LOTs are different for different groups of sales, the selling functions and activities of the seller for each group should be dissimilar.

Vita reported that it sold the merchandise under review to two types of customers, sales agents and end users, in the United States and the Netherlands through one channel of distribution in each market. See Vita's September 22, 2005, and November 25, 2005, questionnaire responses at 18-24 and 11-13, respectively. In each channel of distribution, Vita engaged in the following selling activities for both types of customers: order processing, packing, freight and delivery, and paying sales commissions. Because the one sales channel in the United States involves the same functions for all sales, and the one sales channel in the Netherlands also involves the same functions for all sales, we have preliminarily determined that there is one LOT in the United States and one LOT in the Netherlands. Moreover, because Vita performed nearly identical selling functions for U.S. and Dutch sales (the only difference being that, at times, Vita arranged the international shipping for Dutch sales, whereas it did not provide this service for U.S. sales), we have preliminarily determined that, during the POR, Vita sold the foreign like product and subject merchandise at the same LOT. Therefore, we have determined that a LOT adjustment is not warranted.

Currency Conversion

Pursuant to section 773A(a) of the Act, we converted amounts expressed in foreign currencies into U.S. dollar amounts based on the exchange rates in effect on the dates of the U.S. sales, as certified by the Federal Reserve Bank.

Preliminary Results of Review

As a result of this review, we preliminarily determined that the following weighted-average dumping margins exist for the period July 1, 2004, through June 30, 2005:

Manufacturer/Exporter | Margin (percent)
Vita Food Factory (1989) Ltd. | 16.14
Tropical Food Industries Co., Ltd. | 51.16

Public Comment

Within 10 days of publicly announcing the preliminary results of this review, we will disclose to interested parties, any calculations performed in connection with the preliminary results. See 19 CFR § 351.224(b). Any interested party may request a hearing within 30 days of the publication of this notice in the Federal Register. See 19 CFR § 351.310(c). If requested, a hearing will be held 44 days after the date of publication of this notice in the Federal Register, or the first workday thereafter. Interested parties are invited to comment on the preliminary results of this review. The Department will consider case briefs filed by interested parties within 30 days after the date of publication of this notice in the Federal Register. Also, interested parties may file rebuttal briefs, limited to issues raised in the case briefs. The Department will consider rebuttal briefs filed not later than five days after the time limit for filing case briefs. Parties who submit arguments are requested to submit with each argument: (1) A statement of the issue, (2) a brief summary of the argument and (3) a table of authorities. Further, we request that parties submitting written comments provide the Department with a diskette containing an electronic copy of the public version of such comments. Unless the deadline for issuing the final results of review is extended, the Department will issue the final results of this administrative review, including the results of its analysis of issues raised in the written comments, within 120 days of publication of the preliminary results in the Federal Register.

Assessment Rates

In accordance with 19 CFR § 351.212(b)(1), in these preliminary results of review, we calculated importer/customer-specific assessment rates for Vita's subject merchandise. Since Vita did not report the entered value for its sales, we calculated per-unit assessment rates for its merchandise by summing, on an importer or customer-specific basis, the dumping margins calculated for all U.S. sales to the importer or customer, and dividing this amount by the total quantity of those sales. If the importer/customer-specific assessment rate is above de minimis (i.e., 0.50 percent ad valorem or greater), we will instruct CBP to assess the importer/customer-specific rate uniformly, as appropriate, on all entries of subject merchandise during the POR that were entered by the importer or sold to the customer. To determine whether the per-unit duty assessment rates were de minimis (i.e., less than 0.50 percent ad valorem), in accordance with the requirement set forth in 19 CFR § 351.106(c)(2), we calculated importer/customer-specific ad valorem ratios based on the estimated entered value. For TROFCO, the respondent receiving a dumping margin based upon AFA, we will instruct CBP to liquidate entries according to the AFA ad valorem rate. Within 15 days of publication of the final results of review, the Department will issue instructions to CBP directing it to assess the final importer/customer-specific assessment rates (if above de minimis) uniformly on all entries of subject merchandise made by the relevant importer during the POR. The Department clarified its “automatic assessment” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective for all shipments of the subject merchandise entered, or withdrawn from warehouse, for consumption on or after the publication date of the final results of this administrative review, as provided by section 751(a)(1) of the Act: (1) The cash deposit rate for the reviewed companies will be the rate established in the final results of this review (except that if the rate for a particular company is de minimis, i.e., less than 0.5 percent, no cash deposit will be required for that company); (2) for previously investigated or reviewed companies not listed above, the cash deposit rate will continue to be the company-specific rate published for the most recent period; (3) if the exporter is not a firm covered in this review, a prior review, or the less-than-fair-value (LTFV) investigation, but the manufacturer is, the cash deposit rate will be the rate established for the most recent period for the manufacturer of the subject merchandise; and (4) the cash deposit rate for all other manufacturers or exporters will continue to be the “all others” rate of 24.64 percent, which is the “all others” rate established in the LTFV investigation. These cash deposit rates, when imposed, shall remain in effect until publication of the final results of the next administrative review.

Notification to Importers

This notice also serves as a preliminary reminder to importers of their responsibility under 19 CFR 351.402(f)(2) to file a certificate regarding the reimbursement of antidumping and duties prior to liquidation of the relevant entries during this review period. Failure to comply with this requirement could result in the Secretary's presumption that reimbursement of antidumping duties occurred and the subsequent assessment of double antidumping duties.

We are issuing and publishing this notice in accordance with sections 751(a)(1) and 777(i)(1) of the Act.

Dated: July 31, 2006.
David M. Spooner,
Assistant Secretary for Import Administration.

[FR Doc. E6-12654 Filed 8-3-06; 8:45 am]

BILLING CODE 3510-DS-S